DEPARTMENT OF VETERANS AFFAIRS

Advisory Committee on Minority Veterans, Notice of Meeting

The Department of Veterans Affairs (VA) gives notice under the Public Law 92-463 (Federal Advisory Committee Act) that a meeting of the Advisory Committee on Minority Veterans will be held on April 12-15, 2010, in San Diego, California. On April 12, the Committee will meet at the San Diego VA Medical Center (VAMC), 3350 La Jolla Village Drive, from 9 a.m. until 4:30 p.m. On April 13, the Committee will meet at the VA Regional Office (VARO), 8810 Rio San Diego Drive, from 8:30 a.m. until 4 p.m. On April 14-15, the Committee will meet at the Westin San Diego, Opal Room, 400 West Broadway, from 8 a.m. each day until 6:30 p.m. on April 14 and until 5 p.m. on April 15.

The purpose of the Committee is to advise the Secretary on the administration of VA benefits and services to minority Veterans, to assess the needs of minority Veterans and to evaluate whether VA compensation, medical and rehabilitation services, outreach, and other programs are meeting those needs. The Committee will make recommendations to the Secretary regarding such activities subsequent to the meeting.

On April 12, the Committee will meet in open session from 9 a.m. until 3:30 p.m. to hold discussions with VAMC key staff members on services, benefits, delivery challenges and successes and receive a briefing by the Veterans Employment Coordination Service Area Coordinator. The Committee will meet in a closed session from 3:30 p.m. until 4:30 p.m. to tour the VAMC facility.

On April 13, the Committee will meet in open session from 8:30 a.m. until noon to hold discussions with VARO key staff members on services, benefits, delivery challenges and successes. The Committee will meet in closed session from 1:30 p.m. until 2:30 p.m. to tour the VARO facility. The Committee will resume in open session at 2:30 p.m. until 4 p.m. for a panel discussion with Veteran Service Organization on San Diego Veterans' issues. At 6:30 p.m., the Committee will hold a Town Hall meeting at the Scottish Rite Event Center on 1895 Camino Del Rio South.

On April 14, the Committee will meet in open session to work on their after action report and receive a briefing from the Area Director on the California Area Indian Health Service. In the afternoon, the Committee will depart the hotel for Fort Rosecrans National Cemetery at Point Loma for a tour and briefing. After receiving the briefing, the Committee will then depart and reconvene at Westin San Diego—Opal Room to work on their report to the Secretary.

On April 15, the Committee will meet in open session to conduct an exit briefing with VA leadership from all three administrations and work on their report during this period.

The Committee will convene the above mentioned closed sessions in order to protect the privacy of patients and patient records as the Committee tours patient treatment areas and discusses service needs of Veterans. Closing these portions of the meeting is in accordance with 5 U.S.C. 552b(c)(6).

The Committee will accept written comments from interested parties on issues outlined in the meeting agenda, as well as other issues affecting minority Veterans. Such comments should be referred to the Committee at the following address:

Advisory Committee on Minority Veterans, Center for Minority Veterans (00M), U.S. Department of Veterans Affairs, 810 Vermont Avenue, NW., Washington, DC 20420.

For additional information about the meeting, please contact Mr. Ronald Sagudan or Mr. Dwayne Campbell at (202) 461-6191.

Dated: March 10, 2010.
By Direction of the Secretary.
Vivian Drake,
Acting Advisory Committee Management Officer.

[FR Doc. 2010-5739 Filed 3-16-10; 8:45 am]

BILLING CODE P